DEPARTMENT OF DEFENSE

Department of the Navy

Notice of Availability of Government-Owned Inventions; Available for Licensing

AGENCY: Department of the Navy, DoD.

ACTION: Notice.

SUMMARY: The Department of the Navy hereby gives notice of the availability of exclusive or partially exclusive license to practice worldwide under the following pending patent.

Patent application Serial Numbers 11/152,340 and PCT/US05/21185 entitled “Method and Apparatus for Removing Mercury and Mercury Containing Particles from Dental Waste Water” filed on June 15 and 16, 2005. The present invention relates to the field of development of the removal of particulate metals, such as mercury or silver from dental waste-water using a self-contained mercury filtration cartridge for a single dental unit.

Patent application Serial Numbers 11/152,340 and PCT/US05/21185 entitled “Hand-held Fluorescence Polarimeter” filed on June 2, 2005. The present invention relates to a miniaturized, portable, hand-held apparatus for measuring the fluorescence polarization of a liquid sample.

Patent application Serial Numbers 11/108,867 and PCT/US05/13255 entitled “Cloning and Expression of the Full Length 110 KDA Antigen of Orientia Tsutsugamushi to be Used as a Vaccine Component Against Scrub Typhus” filed on April 19, 2005. The present invention relates to the protection against infection of Orientia tsutsugamushi.

Patent application Serial Number 60/666,591 entitled “Use of EEG to Measure Cerebral Changes During Computer-based Motion Sickness-inducing Tasks” filed on March 31, 2005. The present invention relates to an ability to pinpoint a specific neural marker that signals the early onset of motion sickness.

Patent application Serial Number 60/650,972 entitled “Diagnostic Assay for Orientia Tsutsugamushi by Detection of Responsive Gene Expression “filed on February 9, 2005. The present invention relates to a method for the diagnosis of Orientia tsutsugamushi infection by measuring the increased or decreased expression of specific human genes following infection by microarray or polymerase chain reaction analysis.

Patent application Serial Numbers 10/809,877 and PCT/US04/16880 entitled “A Rapid Immunoassay of Anthrax Protective Antigen in Vaccine Cultures and Bodily Fluids by Fluorescence Polarization” filed on July 27, 2004. The present invention relates to a competitive fluorescence method for estimating the concentration in a sample of Bacillus anthracis protein or specific antibody. The method contemplates the use of FLT, FRET or FP.

Patent application Serial Number 10/855,325 entitled “A Method for the Rapid Diagnosis of Infectious Disease by Detection and Quantitation of Microorganism Induced Cytokines” filed on May 28, 2004. The present invention relates to a method for the diagnosis of latent infectious disease, such as Mycobacterium Tuberculosis, by estimating, the concentration of cytokine due to antibody-cytokine interaction or by dimerization of the cytokine.

Patent application Serial Numbers 10/898,954 and PCT/US04/24252 entitled “Bowel Preparation for Virtual Colonoscopy” filed on December 1, 2003. The present invention relates to an immunogenic composition and method of immunizing a subject against malarial disease comprising administering a priming immunization preparation containing an alphavirus replicon expressing a gene encoding a malarial antigen or combination of antigens and subsequently administering to the subject a boosting immunization preparation containing the malarial antigen(s) or antigen expression system containing the antigen(s).

DATES: Applications for an exclusive or partially exclusive license may be submitted at any time from the date of this notice.

ADDRESSES: Submit applications to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave, Silver Spring, MD 20910-7500, telephone 301-319-7428 or e-mail at: schlagelc@nmrc.navy.mil.

SUPPLEMENTARY INFORMATION: Any license granted shall comply with 35 U.S.C. 209 and 37 CFR Part 404. Applications will be evaluated utilizing the following criteria: (1) Ability to manufacture and market the technology; (2) manufacturing and marketing ability; (3) time required to bring technology to market and production rate; (4) royalties; (5) technical capabilities; and (6) small business status.

Dated: August 26, 2005.
I.C. Le Moyne Jr.,
Lieutenant, Judge Advocate General's Corps, U.S. Navy, Alternate Federal Register Liaison Officer.

[FR Doc. 05-17398 Filed 8-31-05; 8:45 am]

BILLING CODE 3810-FF-P